DEPARTMENT OF COMMERCE

National Oceanic and Atmospheric Administration

DEPARTMENT OF THE INTERIOR

U.S. Fish and Wildlife Service

RIN 0648-XF79

Marine Mammals and Endangered Species; National Marine Fisheries Service File No. 932-1905; U.S. Fish and Wildlife Service File No. PRT-009526

AGENCIES: National Marine Fisheries Service (NMFS), National Oceanic and Atmospheric Administration (NOAA), Commerce; U.S. Fish and Wildlife Service, Interior.

ACTION: Notice; receipt of application.

SUMMARY: Notice is hereby given that the NMFS Marine Mammal Health and Stranding Response Program (MMHSRP), Silver Spring, MD (Dr. Teri Rowles, Principal Investigator) has applied in due form for a permit to conduct enhancement and research activities on marine mammals.

DATES: Written, telefaxed, or e-mail comments must be received on or before April 16, 2008.

ADDRESSES: The application and related documents are available for review upon written request or by appointment in the following office(s):

Permits, Conservation and Education Division, Office of Protected Resources, NMFS, 1315 East-West Highway, Room 13705, Silver Spring, MD 20910; phone (301)713-2289; fax (301)713-0376; and

U.S. Fish and Wildlife Service, Division of Management Authority, 4401 North Fairfax Drive, Room 212, Arlington, VA 22203 (1-800-358-2104).

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 932-1905/PRT-009526.

FOR FURTHER INFORMATION CONTACT: Amy Sloan or Carrie Hubard, Office of Protected Resources, NMFS, (301)713-2289.

SUPPLEMENTARY INFORMATION: The subject permit is requested under the authority of the Marine Mammal Protection Act of 1972, as amended (MMPA; 16 U.S.C. 1361 et seq.), the regulations governing the taking and importing of marine mammals (50 CFR parts 18 and 216), the Endangered Species Act of 1973, as amended (16 U.S.C. 1531 et seq.), the regulations governing the taking, importing, and exporting of endangered and threatened species (50 CFR parts 17 and 222-226), and the Fur Seal Act of 1966, as amended (16 U.S.C. 1151 et seq.).

The applicant requests authorization to (1) carry out activities pursuant to section 109(h), 112(c), and Title IV of the MMPA that involve threatened and endangered marine mammal species under NMFS jurisdiction; (2) harass marine mammals incidental to all MMHSRP activities in the U.S.; (3) conduct research activities on marine mammals in the U.S.; and (4) collect, receive, transfer, import, export, analyze, and curate marine mammal specimens.

All threatened and endangered marine mammal species under NMFS jurisdiction are considered target species for stranding/emergency response activities. All species under NMFS jurisdiction are target species for research activities. Specimens from all species of marine mammals under NMFS or USFWS jurisdiction may be received, transferred, imported, exported, analyzed, and archived.

Type and manner of take includes Level A harassment during emergency response and research activities including capture; sedation/anesthesia; biological sampling (e.g., blood, blubber, muscle, respiratory gases, swabs); and removing entangling gear/material. Level B harassment may occur from close approach, hazing away from hazardous or harmful situations, photo-identification, and aerial and vessel surveys.

The number of threatened and endangered animals that may be rescued and/or sampled is dependent on the number of incidents that occur and the ability to respond. The number of marine mammals that may be involved in research annually is as follows: approximately 400 pinnipeds (all species); 200 small cetaceans (all species); and 100 large whales (all species). An unlimited number of marine mammal specimens may be received, collected, imported, or exported annually.

Non-target animals that may be incidentally harassed during any MMHSRP activity in the U.S. include any marine mammal under NMFS and USFWS jurisdictions. Geographic locations of the takes could include any area in the U.S. and U.S. waters. Specimen samples may be imported/exported world-wide. The applicant has requested a 5-year permit.

The NMFS MMHSRP has prepared a draft Environmental Impact Statement (DEIS) in compliance with the National Environmental Policy Act of 1969 (42 U.S.C. 4321.et seq.). The DEIS includes analysis of activities proposed in this permit application. The DEIS is available on the following web site: http://www.nmfs.noaa.gov/pr/health/eis.htm.

Concurrent with the publication of this notice in the Federal Register, NMFS is forwarding copies of this application to the Marine Mammal Commission and its Committee of Scientific Advisors.

Dated: March 7, 2008.
P. Michael Payne,
Chief, Permits, Conservation and Education Division, Office of Protected Resources, National Marine Fisheries Service.

Dated: March 7, 2008.
Timothy J. VanNorman,
Chief, Branch of Permits, Division of Management Authority, U.S. Fish and Wildlife Service.

[FR Doc. E8-5307 Filed 3-14-08; 8:45 am]

BILLING CODES 3510-22-S, 4310-55-S